DEPARTMENT OF HEALTH AND HUMAN SERVICES

National Institutes of Health

National Institute of Allergy and Infectious Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Institute of Allergy and Infectious Diseases Special Emphasis Panel, Pharmaceutical and Chemical Resources for AIDS Drug Development.

Date: October 2-3, 2006.

Time: 8 a.m. to 5 p.m.

Agenda: To review and evaluate contract proposals.

Place: Residence Inn Bethesda, 7335 Wisconsin Avenue, Bethesda, MD 20814.

Contact Person: Darren D. Sledjeski PhD, Scientific Review Administrator, NIAID, DEA, Scientific Review Program, Room 3253, 6700B Rockledge Drive, MSC-7616, Bethesda, MD 20892-7616, (301) 451-2638.

Name of Committee: National Institute of Allergy and Infectious Diseases Special Emphasis Panel, Center for AIDS Research.

Date: October 5-6, 2006.

Time: 8 a.m. to 5:30 p.m.

Agenda: To review and evaluate grant applications.

Place: Clarion Hotel, 8400 Wisconsin Avenue, Bethesda, MD 20814.

Contact Person: Eleazar Cohen, PhD, Scientific Review Administrator, Division of Extramural Activities, NIH/NIAID/DHHS, 6700B Rockledge Drive, Room 3129, Bethesda, MD 20892, (301) 435-3564, ec17w@nih.gov.

(Catalogue of Federal Domestic Assistance Program Nos. 93.855, Allergy, Immunology, and Transplantation Research; 93.856, Microbiology and Infectious Diseases Research, National Institutes of Health, HHS).

Dated: September 13, 2006.
Anna Snouffer,
Acting Director, Office of Federal Advisory Committee Policy.

[FR Doc. 06-7919 Filed 9-20-06; 8:45 am]

BILLING CODE 4140-01-M